CONSUMER PRODUCT SAFETY COMMISSION

Privacy Act of 1974; Announcement of Systems of Records

AGENCY: Consumer Product Safety Commission.

ACTION: Notice of Systems of Records.

SUMMARY: The Consumer Product Safety Commission (CPSC or Commission) is publishing notice of two new systems of records, CPSC-25, FOIA Express System of Records (FOIAXpress) and CPSC-26, Learning Management System. Comments must be received on or before September 4, 2007.

ADDRESSES: Written comments should be e-mailed to the Office of the Secretary at cpsc-os@cpsc.gov, or sent by mail to the Office of the Secretary, Consumer Product Safety Commission, 4330 East West Highway, Bethesda, Maryland 20814. Comments may also be sent by facsimile to (301) 504-0127.

FOR FURTHER INFORMATION CONTACT: Linda L. Glatz, Division of Policy and Planning, Office of Information Technology and Technology Services, Consumer Product Safety Commission, 4330 East West Highway, Bethesda, Maryland 20814; (301) 504-7671,or by e-mail to lglatz@cpsc.gov.

SUPPLEMENTARY INFORMATION: CPSC-25, FOIAXpress will be used to maintain records of correspondence and email requests submitted to the Commission under the Freedom of Information Act, 5 U.S.C. 552, or Privacy Act, 5 U.S.C. 552a, so that requests can be tracked and responded to accurately and in a timely manner. CPSC-26, Learning Management System, will be used to submit employee training reports as required by the Office of Personnel Management under 5 CFR 410.701.

These systems of records will become effective September 4, 2007 unless comments are received which justify a contrary determination. The Congress and the Office of Management and Budget have been notified of these systems.

Dated: June 28, 2007.
Todd A. Stevenson,
Secretary, Consumer Product Safety Commission.

CPSC-25

System Name:

CPSC-25, FOIAXpress.

System Location:

Division of Information Management, Consumer Product Safety Commission, 4330 East West Highway, Bethesda, MD 20814.

Categories of Individuals Covered By the System:

Individuals who request information from the Consumer Product Safety Commission pursuant to the Freedom of Information Act or Privacy Act.

Categories of Records Maintained in the System:

Correspondence and e-mail requests for information submitted to the Commission which may contain personal information about individuals, e.g., name, address, city, state, telephone number, fax and e-mail address and other pertinent information related to processing and responding to their FOIA and/or Privacy Act request.

Authority for Maintenance of the System:

5 U.S.C. 552 and 5 U.S.C. 552a.

Purpose:

These records are used by Commission staff responding to the request for information so that requests can be tracked and responded to accurately and in a timely manner.

Routine Uses:

1. These records are used to record the requesting individual's address so a response can be forwarded.

2. These records are used to record the specific information that the individual is seeking so that the information we provide is responsive to the request.

3. Staff will search the records to determine which requests have been filled and which are still pending.

4. CPSC will use these records to prepare an annual report of FOIA activities at the end of each fiscal year and submit the report to the Attorney General, through the Department of Justice, Office of Information and Privacy.

Policies and Practices For Storing, Retrieving, Accessing, Retaining, and Disposing of Records In the System:

Storage:

Records will be entered into a database tracking system and given a request number. All information will be stored electronically and paper requests will eventually be destroyed.

Retrievability:

Records will mainly be retrieved using the FOIA request number, however, records may also be retrieved by searching on a requester's last name, a company name or entry date and closed date.

Safeguards:

Computer records are protected by passwords available only to staff with a need to know.

Retention and Disposal:

Records will be stored electronically for 2 to 6 years, contingent upon the National Archives Records Administration (NARA's General Records Schedule 14).

System Manger and Address:

Todd A. Stevenson, Director, Division of Information Management, Consumer Product Safety Commission, 4330 East West Highway, Bethesda, MD 20814.

Notification Procedures:

Freedom of Information/Privacy Act Officer, Office of the Secretary, Consumer Product Safety Commission, 4330 East West Highway, Bethesda, MD 20814.

Record Access Procedures:

Same as notification.

Contesting Record Procedures:

Same as notification.

Records Source Categories:

Personal information in these records is obtained from the individual requesting the information under FOIA or Privacy Act.

CPSC-26

System Name:

CPSC-26, Learning Management System.

System Location:

Division of Information Management, Consumer Product Safety Commission, 4330 East West Highway, Bethesda, MD 20814.

Categories of Individuals Covered By the System:

CPSC employees.

Categories of Records Maintained In the System:

Information concerning training courses that an employee takes during the year. The employee enters a training request by entering their social security number, date of birth, course title, vendor name, course location and other OPM specific data fields that pertain to the collection of training records.

Authority for Maintenance of the System:

5 U.S.C. Chapter 41—Training; 5 CFR part 410.

Purpose:

These records are used by Commission to respond to Office of Personnel Management's requirements that all federal agencies submit training reports on a monthly basis. The reports must include employee social security number and date of birth.

Routine Uses:

1. These records are used by CPSC to record training information for all employees.

2. CPSC will use these records to submit monthly training reports to OPM.

Policies and Practices For Storing, Retrieving, Accessing, Retaining, and Disposing of Records In the System:

Storage:

Records will be entered into a database tracking system and stored electronically.

Retrievability:

Records will mainly be retrieved using the employee's last name.

Safeguards:

Computer records are protected by passwords available only to staff with a need to know.

Retention and Disposal:

Training records will be stored electronically for five years.

System Manger and Address:

Donna Simpson, Director, Office of Human Resources, Consumer Product Safety Commission, 4330 East West Highway, Bethesda, MD 20814.

Notification Procedures:

Freedom of Information/Privacy Act Officer, Office of the Secretary, Consumer Product Safety Commission, 4330 East West Highway, Bethesda, MD 20814.

Record Access Procedures:

Same as notification.

Contesting Record Procedures:

Same as notification.

Records Source Categories:

Personal information in these records is obtained from the individual requesting training.

[FR Doc. E7-12906 Filed 7-3-07; 8:45 am]

BILLING CODE 6355-01-P